DEPARTMENT OF HEALTH AND HUMAN SERVICES

Health Resources and Services Administration

Part C Early Intervention Services Grant Under the Ryan White HIV/AIDS Program

AGENCY: Health Resources and Services Administration (HRSA), Department of Health and Human Services.

ACTION: Notice of Non-competitive Award of Part C Funds for the Tutwiler Clinic, Tutwiler, Mississippi.

SUMMARY: HRSA will be awarding non-competitive Part C funds under The Ryan White HIV/AIDS Program to support comprehensive primary care services for persons living with HIV/AIDS, including primary medical care, laboratory testing, oral health care, outpatient mental health and substance abuse treatment, specialty and subspecialty care, referrals for health and support services and adherence monitoring/education services to the Tutwiler Clinic to ensure continuity of critical HIV medical care and treatment services, to clients in Marks, Mississippi, and the surrounding counties.

SUPPLEMENTARY INFORMATION: Grantee of record: Deporres Delta Ministries, Marks, Mississippi.

Intended recipient of the award: Tutwiler Clinic, Tutwiler, Mississippi.

Amount of the award: $357,159 to ensure ongoing clinical services to the target population.

Authority: Section 2651 of the Public Health Service Act, 42 U.S.C. 300ff-51.

CFDA Number: 93.918

Project period: July 1, 2010 to June 30, 2011. The period of support for this award is from July 1, 2010 to June 30, 2011.

Justification for the Exception to Competition: Critical funding for HIV medical care and treatment services to clients in the Delta area of Mississippi will be continued through a non-competitive award to the Tutwiler Clinic, because it has the fiscal and administrative infrastructure to administer the Part C Grant. The Tutwiler Clinic will contract with the Northeast Mississippi Medical Center, Clarksdale, Mississippi, which will be taking over the clinic, providers, and staff of Deporres Delta Ministries, and continue providing medical care, including HIV care in Marks, Mississippi. The Northeast Mississippi Medical Center is the only available provider of quality HIV services. This is a temporary replacement award. The previous grant recipient serving this population notified HRSA and the HIV/AIDS Bureau (HAB), that it could not continue providing services after June 30, 2010. HRSA and HAB identified the Tutwiler Clinic as the best qualified entity for this temporary grant. The Clinic is contracting with the Northeast Mississippi Medical Center to ensure comprehensive services are provided to the target population, including primary medical care including antiretroviral therapies; prevention education and medication adherence teaching; referrals for mental health, substance abuse and dental services; and on-site medical HIV case management services. The additional funding provided would enhance retaining the targeted population in care.

The Tutwiler Clinic, contracting with the Northeast Mississippi Medical Center, is able to provide critical services with the least amount of disruption to the service population while the service area is re-competed.

This supplement will cover the time period from July 1, 2010, through June 30, 2011. This service area will be included in the upcoming competition for the Part C HIV Early Intervention Services for project periods starting July, 2011.

FOR FURTHER INFORMATION CONTACT: Kathleen Treat, by e-mail ktreat@hrsa.gov, or by phone, 301-443-7602.

Dated: September 1, 2010.
Mary K. Wakefield,
Administrator.

[FR Doc. 2010-22500 Filed 9-8-10; 8:45 am]

BILLING CODE 4165-15-P